FEDERAL COMMUNICATIONS COMMISSION

[OMB 3060-0798; OMB 3060-0508]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before August 4, 2017. If you anticipate that you will be submitting comments, but find it difficult to do so within the period of time allowed by this notice, you should advise the contacts below as soon as possible.

ADDRESSES: Direct all PRA comments to Cathy Williams, FCC, via email: PRA@fcc.gov and to Cathy.Williams@fcc.gov.

FOR FURTHER INFORMATION CONTACT: For additional information about the information collection, contact Cathy Williams at (202) 418-2918.

SUPPLEMENTARY INFORMATION: As part of its continuing effort to reduce paperwork burdens, and as required by the PRA, 44 U.S.C. 3501-3520, the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-0798.

Title: FCC Application for Radio Service Authorization; Wireless Telecommunications Bureau; Public Safety and Homeland Security Bureau.

Form Number: FCC Form 601.

Type of Review: Revision of a currently approved collection.

Respondents: Individuals and households; Business or other for-profit entities; Not-for-profit institutions; and State, local or tribal governments.

Number of Respondents and Responses: 253,320 respondents and 253,320 responses.

Estimated Time per Response: 0.5-1.25 hours.

Frequency of Response: Recordkeeping requirement, third party disclosure requirement, on occasion reporting requirement and periodic reporting requirement.

Obligation to Respond: Required to obtain or retain benefits. The statutory authority for this collection of information is contained in 47 U.S.C. 151, 152, 154, 154(i), 155(c), 157, 201, 202, 208, 214, 301, 302a, 303, 307, 308, 309, 310, 311, 314, 316, 319, 324, 331, 332, 333, 336, 534, 535 and 554.

Total Annual Burden: 222,055 hours.

Total Annual Cost: $71,306,250.

Privacy Impact Assessment: Yes.

Nature and Extent of Confidentiality: In general there is no need for confidentiality with this collection of information.

Needs and Uses: FCC Form 601 is a consolidated, multi-part application form that is used for market-based and site-based licensing for wireless telecommunications services, including public safety licenses, which are filed through the Commission's Universal Licensing System (ULS). FCC Form 601 is composed of a main form that contains administrative information and a series of schedules used for filing technical and other information. This form is used to apply for a new license, to amend or withdraw a pending application, to modify or renew an existing license, cancel a license, request a duplicate license, submit required notifications, request an extension of time to satisfy construction requirements, or request an administrative update to an existing license (such as mailing address change), request a Special Temporary Authority or Developmental License. Respondents are encouraged to submit FCC Form 601 electronically and are required to do so when submitting FCC Form 601 to apply for an authorization for which the applicant was the winning bidder in a spectrum auction.

The data collected on FCC Form 601 includes the FCC Registration Number (FRN), which serves as a “common link” for all filings an entity has with the FCC. The Debt Collection Improvement Act of 1996 requires entities filing with the Commission use an FRN.

On November 7, 2014, the Federal Communications Commission (“Commission”) released a Report and Order and Further Notice of Proposed Rulemaking (FCC 14-181) in WT Docket No. 12-40 to reform its rules governing the 800 MHz Cellular Radiotelephone (Cellular) Service. Subsequently, on March 24, 2017, the Commission released a Second Report and Order (FCC 17-27) in that same proceeding, revising certain technical and licensing rules applicable to the Cellular Service (Cellular Second R&O). In addition to rule revisions that do not affect this information collection, in the Cellular Second R&O, the Commission adopted revised radiated power rules, giving Cellular licensees the option to comply with effective radiated power limits based on power spectral density (PSD), and it made conforming changes to related technical provisions to accommodate PSD. The Commission retained, as an option, the existing radiated power limits (non-PSD) and related technical requirements for Cellular licensees that either cannot or choose not to use a PSD model. The Commission also revised the definition and filing requirements for permanent discontinuance of operations, consistent with transitioning the Cellular Service from a site-based regime to one that is geographic-based.

The Commission now seeks approval for revisions to its currently approved collection of information under OMB Control Number 3060-0798 to permit the collection of PSD-related technical information (in lieu of certain non-PSD technical information) for Cellular Service licensees that opt to use a PSD model for their systems, pursuant to the Cellular Second R&O. We are revising Schedule F of Form 601 accordingly to allow licensees to request modifications to their licenses based on PSD operations. We do not anticipate that this revision will have any impact on the burden to complete the form/Schedule F.

The Commission therefore seeks approval for a revision to its currently approved information collection on FCC Form 601 to revise FCC Form 601 accordingly.

OMB Control Number: 3060-0508.

Title: Parts 1 and 22 Reporting and Recordkeeping Requirements.

Form Number: Not applicable.

Type of Review: Revision of a currently approved collection.

Respondents: Business or other for-profit entities, Individuals or households, and State, Local or Tribal Governments.

Number of Respondents and Responses: 15,465 respondents; 16,183 responses.

Estimated Time per Response: 0.017 hours-10 hours.

Frequency of Response: Recordkeeping requirement; On occasion, quarterly, and semi-annual reporting requirements.

Obligation to Respond: Required to obtain or retain benefits. The statutory authority for this collection is contained in 47 U.S.C. 154, 222, 303, 309 and 332.

Total Annual Burden: 4,406 hours.

Annual Cost Burden: $19,138,350.

Privacy Act Impact Assessment: Yes.

Nature and Extent of Confidentiality: There is no need for confidentiality with this collection of information. The information to be collected will be made available for public inspection. Applicants may request materials or information submitted to the Commission be given confidential treatment under 47 CFR 0.459 of the Commission's rules.

Needs and Uses: Part 22 contains the technical and legal requirements for radio stations operating in the Public Mobile Services. The information collected is used to determine on a case-by-case basis, whether or not to grant licenses authorizing construction and operation of wireless telecommunications facilities to common carriers. Further, this information is used to develop statistics about the demand for various wireless licenses and/or the licensing process itself, and occasionally for rule enforcement purposes.

This revised information collection reflects changes in rules applicable to Part 22 800 MHz Cellular Radiotelephone (“Cellular”) Service licensees and applicants, as adopted by the Commission in a Second Report and Order in WT Docket No. 12-40 and a companion Report and Order in WT Docket No. 10-112 concerning the Wireless Radio Services (WRS), which include the Cellular Service among others (WRS R&O) (FCC 17-27). The Cellular Second R&O and WRS R&O revised or eliminated certain licensing rules and modernized outdated technical rules applicable to the Cellular Service. Specifically, in addition to rule revisions that do not affect this information collection, in the Cellular Second R&O, the Commission revised the Cellular radiated power rules, giving licensees the option to comply with effective radiated power limits based on power spectral density (PSD), and giving licensees the additional option to operate at PSD limits above a specified threshold (Higher PSD Limits) so long as certain conditions are met. One of these conditions, set forth in a new provision of the Cellular rules, is a requirement for written advance notification to public safety entities within a specified radius of the cell sites to be deployed at the Higher PSD Limits. This third-party disclosure requirement is an important component of the Commission's approach to protecting public safety entities from increased potential for unacceptable interference to their communications. Also in the Cellular Second R&O and of relevance to this information collection, the Commission eliminated the requirement for filings for certain changes to cell sites in a Cellular system. In the WRS R&O, the Commission deleted the Part 22 Cellular comparative hearing/license renewal rules, resulting in discontinued information collections for the following rule sections: 22.935, 22.936, 22.939, and 22.940.

The Commission is now seeking approval from the Office of Management and Budget (“OMB”) for a revision of this information collection.

Federal Communications Commission.
Katura Jackson,
Federal Register Liaison Officer, Office of the Secretary.

[FR Doc. 2017-11522 Filed 6-2-17; 8:45 am]

BILLING CODE 6712-01-P